POSTAL REGULATORY COMMISSION

[Docket No. MC2016-172; Order No. 3451]

New Postal Product

AGENCY: Postal Regulatory Commission.

ACTION: Notice.

SUMMARY: The Commission is noticing a recent Postal Service filing concerning minor classification changes to the Country Price Lists for International Mail. This notice informs the public of the filing, invites public comment, and takes other administrative steps.

DATES: Comments are due: August 4, 2016.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Ordering Paragraphs

I. Introduction

On July 27, 2016, the Postal Service filed a notice of a minor classification change regarding the Country Price Lists for International Mail in Part D of the Mail Classification Schedule (MCS), under Commission rules 39 CFR 3020.90 and 3020.91.¹ The Postal Service also presents proposed changes to the MCS. Notice at 2; Attachment 1. The Postal Service states that the proposed changes are minor in nature and are not inconsistent with 39 U.S.C. 3642. Notice at 3.

¹ Notice of United States Postal Service of Minor Classification Change, July 27, 2016 (Notice).

MCS change. The Postal Service plans to provide outbound Priority Mail Express International (PMEI) service to Cuba. Id. at 1. Accordingly, the Postal Service seeks to assign Country Group 9 to Cuba for variable weight PMEI and Country Group 8 to Cuba for PMEI Flat Rate Envelope. Id. at 2.

II. Notice of Commission Action

Pursuant to 39 CFR 3020.92, the Commission has posted the Notice on its Web site and invites comments on whether the Postal Service's filings in Docket No. MC2016-172 are consistent with the policies of 39 U.S.C. 3642 and 39 CFR 3020 subpart E. Comments are due no later than August 4, 2016. The public portions of these filings can be accessed via the Commission's Web site (http://www.prc.gov).

The Commission appoints Katrina R. Martinez to represent the interests of the general public (Public Representative) in this docket.

III. Ordering Paragraphs

IT IS ORDERED:

1. The Commission establishes Docket No. MC2016-172 to consider matters raised by the Notice.

2. Pursuant to 39 U.S.C. 505, Katrina R. Martinez is appointed to serve as an officer of the Commission (Public Representative) to represent the interests of the general public in this proceeding.

3. Comments by interested persons are due by August 4, 2016.

4. The Secretary shall arrange for publication of this order in the Federal Register.

By the Commission.
Stacy L. Ruble,
Secretary.

[FR Doc. 2016-18310 Filed 8-2-16; 8:45 am]

BILLING CODE 7710-FW-P